DEPARTMENT OF COMMERCE

Submission for OMB Review; Comment Request

The Department of Commerce will submit to the Office of Management and Budget (OMB) for clearance the following proposal for collection of information under the emergency provisions of the Paperwork Reduction Act (44 U.S.C. Chapter 35).

Agency: International Trade Administration.

Title: Market Research to Broaden and Deepen U.S. Exporter Base.

OMB Control Number: None.

Form Number(s): ITA-8710; ITA-8711; ITA-8712; and ITA-8713.

Type of Review: Regular submission.

Burden Hours: 1,800.

Number of Respondents: 4,000.

Average Hours per Response: 15 minutes, ITA-8710 and ITA-8713; and 30 minutes, ITA 8711 and ITA-8712.

Needs and Uses: Expanding U.S. exports is a national priority essential to improving U.S. trade performance. The Department of Commerce (DOC), International Trade Administration (ITA), U.S. Commercial Service (CS) serves as the key U.S. government agency responsible for promoting exports of goods and services from the United States, particularly by small and medium-sized enterprises, and assisting U.S. exporters in their dealings with foreign governments.

Section 4721 of 15 U.S. Code contains several provisions that direct the CS to, “identify United States businesses with the potential to export goods and services and provide such businesses with advice and information on establishing export businesses.” As such, the long-term performance goal of the CS is to “broaden and deepen the U.S. exporter base.”

Furthermore, the CS is mandated by the Government Performance and Results Act of 1993 to improve program performance and achieve better results for the American people. Based on this mandate, the CS developed new metrics driven by the 2008 Program Assessment Rating Tool (PART) to measure the effectiveness and impact of the CS at broadening and deepening the U.S. exporter base.

In order to collect information that establishes the baseline metrics for some of these new performance measures and provides data points for determining how to meet program performance goals, the CS requests approval to conduct market research on prospective and existing U.S. exporters using the following four surveys:

1. Commercial Service Brand Analysis and Strategy Survey (Form ITA-8710): The CS must increase awareness of our organization and the services provided to U.S. companies. Currently, there is no research available about CS awareness and brand position. This survey was designed to measure four new performance metrics (awareness, consideration, transaction and loyalty) related to broadening and deepening the U.S. exporter base.

2. Market Segmentation Survey of Moderate U.S. Exporters—Manufacturers (Form ITA-8711): The CS must gain market knowledge and generate statistically valid characterizations about the needs of exporting companies, especially small and medium-sized enterprises. This survey was designed to identify different segments of U.S. manufacturers so that the organization can measure our ability to broaden and deepen the exporter base of each unique segment.

3. Market Segmentation Survey of U.S. Exporters—Service Providers (Form ITA-8712): CS must gain market knowledge and generate statistically valid characterizations about the needs of exporting companies. This survey was designed to identify different segments of U.S. service providers so that the organization can measure our ability to broaden and deepen the exporter base of each unique segment.

4. Market Evaluation Survey of Non-Exporting Companies (Form ITA-8713): CS must gain market knowledge and generate statistically valid characterizations about the needs of non-exporting companies. This survey was designed to uncover the needs of U.S. companies that are not currently exporting so that the CS can measure the organization's ability to turn non-exporters into exporters.

The information will be used to improve and better target services provided to the public. Without this information, the CS is unable to measure program performance and systematically determine the needs and benefits desired of U.S. companies and how best to meet these needs in order to broaden and deepen the U.S. exporter base.

Affected Public: Business or other for-profit organizations.

Frequency: One-time, annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to OMB Desk Officer, David Rostker, FAX number (202) 395-5806, or David_Rostker@omb.eop.gov.

Dated: September 5, 2008.
Gwellnar Banks,
Management Analyst, Office of the Chief Information Officer.

[FR Doc. E8-21030 Filed 9-10-08; 8:45 am]

BILLING CODE 3510-13-P